POSTAL REGULATORY COMMISSION

[Docket Nos. MC2015-68 and CP2015-99; Order No. 2581]

New Postal Product

AGENCY: Postal Regulatory Commission.

ACTION: Notice.

SUMMARY: The Commission is noticing a recent Postal Service filing concerning the addition of International Merchandise Return Service Agreements with Foreign Postal Operators Non-Published Rates to the competitive product list. This notice informs the public of the filing, invites public comment, and takes other administrative steps.

DATES: Comments are due: July 21, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

In accordance with 39 U.S.C. 3642 and 39 CFR 3020.30 et seq., the United States Postal Service (Postal Service) filed a formal request and associated supporting information to add Competitive International Merchandise Return Service Agreements with Foreign Postal Operators (IMRS-FPO) to the competitive products list.¹ If the proposed product is approved by the Commission, the Postal Service intends to file each new IMRS-FPO agreement in this docket on or before its effective date, pursuant to 39 U.S.C. 407(d). Request at 5 n.8.

¹ Request of the United States Postal Service to Add Competitive International Merchandise Return Service Agreements with Foreign Postal Operator (IMRS-FPO) Product to the Competitive Products List and Notice of Filing IMRS-FPO Model Agreement and Application for Non-Public Treatment of Materials Filed Under Seal, July 10, 2015 (Request).

To support its Request, the Postal Service filed an application for non-public treatment of materials filed under seal; a redacted copy of Governors' Decision No. 11-6, which authorizes the product; a set of maximum and minimum prices; a statement of supporting justification, as required by 39 CFR 3020.32; a copy of proposed mail classification schedule language; a copy of the IMRS-FPO model agreement; a certification of compliance with 39 U.S.C. 3633(a); a redacted copy of a related management analysis; and supporting financial workpapers.

In the attached statement of supporting justification, the Postal Service asserts the IMRS-FPO would close a gap in currently available postal product offerings and that the proposed product would generate new revenue and encourage growth in cross-border e-commerce via the postal channel. Id., Attachment 3 at 4. The Postal Service further contends that IMRS-FPO belongs on the competitive products list because it will not be subsidized by market dominant products, covers costs attributable to it, does not cause competitive products as a whole to fail to make the appropriate contribution to institutional costs, is part of a market over which the Postal Service does not exercise market dominance, and is not covered by the postal monopoly. Request at 2-4.

II. Notice of Commission Action

The Commission establishes Docket Nos. MC2015-68 and CP2015-99 to consider the Request pertaining to the addition of IMRS-FPO to the competitive products list.

The Commission invites comments on whether the Postal Service's filings in the captioned dockets are consistent with the policies of 39 U.S.C. 3632, 3633, or 3642, 39 CFR part 3015, and 39 CFR part 3020, subpart B. Comments are due no later than July 21, 2015. The public portions of these filings can be accessed via the Commission's Web site (http://www.prc.gov).

The Commission appoints James F. Callow to serve as an officer of the Commission to represent the interests of the general public in these proceedings (Public Representative).

III. Ordering Paragraphs

It is ordered:

1. The Commission establishes Docket Nos. MC2015-68 and CP2015-99 to consider the matters raised in each docket.

2. Pursuant to 39 U.S.C. 505, James F. Callow is appointed to serve as Public Representative in these dockets.

3. Comments are due no later than July 21, 2015.

4. The Secretary shall arrange for publication of this order in the Federal Register.

By the Commission.
Ruth Ann Abrams,
Acting Secretary.

[FR Doc. 2015-17686 Filed 7-17-15; 8:45 am]

BILLING CODE 7710-FW-P